DEPARTMENT OF AGRICULTURE

Food Safety and Inspection Service

[Docket No. FSIS-2010-0019]

Measuring Progress on Food Safety: Current Status and Future Directions; Public Meeting

AGENCY: Food Safety and Inspection Service, USDA.

ACTION: Notice of public meeting.

SUMMARY: This notice is announcing that the Food Safety and Inspection Service (FSIS), the Food and Drug Administration (FDA), and the Centers for Disease Control and Prevention (CDC), are jointly hosting two public meetings to obtain stakeholder input. The first is on July 21, 2010, in Chicago, IL. The second will be held on October 20, 2010, in Portland, OR. The Agencies are requesting information from all stakeholders, including the regulated food industry, State regulators, and consumer groups, on appropriate metrics to be used to assess performance in food safety. The Agencies are also interested in input on stakeholders' understanding and perceptions of metrics currently being used by the Federal Agencies. Although the Agencies are primarily interested in obtaining stakeholder input, the Agencies will present a limited amount of background on the Food Safety Working Group's charge to create meaningful metrics to measure the effectiveness of the Nation's food safety system and the Agency's current thinking on these issues.

DATES: The public meetings will be held on Wednesday, July 21, 2010, 9 a.m. to 5 p.m. in Chicago, IL, and on October 20, 2010, 9 a.m. to 5 p.m. in Portland, OR.

Any changes to public meeting dates, times, location, and agenda will be posted on the FSIS Web site and announced in the Agency's Constituent Update.

For Registration Information Contact: Jodee Warner, EDJ Associates, Inc., 11300 Rockville Pike, Suite 1001, Rockville, MD 20852, telephone: (240) 221-4296, Fax: (301) 945-4295, e-mail: jwarner@edjassociates.com.

For general questions about the public meeting, request to make an oral presentation and submission of a presentation, and for special accommodations due to a disability, contact: Juanita Yates, Center for Food Safety and Applied Nutrition, FDA, (301) 436-1731, e-mail: juanita.yates@fda.hhs.gov.

Due to limited space, we encourage all persons who wish to attend the public meeting, including those requesting an opportunity to make an oral presentation at the public meeting, to register in advance.

We encourage attendees to register electronically at http://www.fsis.usda.gov/regulations_&_policies/2010_Notices_Index/index.asp. You may also register by fax, e-mail or telephone by providing information, including: Name, organization, address, telephone number and e-mail address to the Registration Contact (see For Registration Information Contact).

First Public Meeting

July 21, 2010, 9 a.m.-5 p.m., Hyatt Regency Chicago, 151 East Wacker Drive, Chicago, IL 60601.

Please note the following important deadlines:

July 6, 2010: Request To Make Oral Presentation.

July 13, 2010: Advance Registration.

July 13, 2010: Request Special Accommodations Due to Disability.

Second Public Meeting

October 20, 2010, 9 a.m.-5 p.m., The Crowne Plaza Portland Downtown, 1441 NE Second Avenue, Portland, OR 97232.

Please note the following important deadlines:

September 24, 2010: Request To Make Oral Presentation.

October 8, 2010: Advance Registration.

October 8, 2010: Request Special Accommodation Due to Disability.

All documents related to the public meeting will be available for public inspection in the FSIS Docket Room, USDA, FSIS, Room 2-2127, George Washington Carver Center, 5601 Sunnyside Avenue, Mailstop 5474, Beltsville, MD 20705-5474 between 8:30 a.m. and 4:30 p.m., Monday through Friday, as soon as they become available.

FDA: Division of Dockets Management (HFA-305), Food and Drug Administration, 5630 Fishers Lane, Room 1061, Rockville, MD 20852.

SUPPLEMENTARY INFORMATION: All stakeholders in the U.S. food safety system are pursuing major new efforts to reduce foodborne illness that include science-based preventive controls in food production and processing. As recommended by President Obama's Food Safety Working Group, one element of the Federal Government's food safety initiatives includes regularly assessing performance metrics for measuring progress in reducing foodborne illness. FSIS, FDA, and CDC are collaborating to address the methodological and data challenges involved in the development of feasible and effective food safety performance metrics.

An initial 1-day public meeting on measuring progress on food safety was held on March 30, 2010, in Washington, DC (75 FR 9232). The public meetings announced in this notice are extensions of that initial public workshop. A transcript of the initial public workshop held on March 30, 2010, is accessible at http://www.regulations.gov. It may be viewed at the Division of Dockets Management (HFA-305), Food and Drug Administration, 5630 Fishers Lane, Room 1061, Rockville, MD 20852.

I. Background

At our March 30, 2010, workshop, FDA, FSIS, and CDC presented their current thinking on performance metrics. The Agencies presented information on various epidemiological and non-epidemiological measures for food safety. Workshop participants recommended that the Agencies provide an opportunity for stakeholders to provide more detail on their views regarding metrics and on current methods being used. Accordingly, the Agencies will hold two regional public meetings specifically to allow stakeholders to make presentations on metrics for food safety. The Agencies will also provide updated information about their use of metrics to measure food safety.

The Agencies are interested in gathering information on metrics from members of industry, consumer groups, and State and local regulators, and other stakeholders. With respect to such information, the Agencies anticipate that presenters will be able to address issues such as whether industry members have metrics in place to assess whether suppliers meet purchase specifications that address food safety. If so, what data are used? Similarly, does the industry have metrics in place to assess the safety of the finished products they produce? If so, what data are used? Does the industry employ metrics to evaluate the effectiveness of their food safety systems? If so, what data are used? Has industry found some metrics that have been particularly effective in evaluating food safety? Are there other metrics that industry has found to be inadequate for measuring food safety? Also, what metrics do consumer groups use to measure food safety? What metrics would they like to use? What are the barriers to using these metrics? Have these groups found some to be effective and others to be inadequate? Do State or local regulators use metrics to measure the effectiveness of their programs for achieving food safety?

To provide some insight into the current thinking of the Agencies, the Federal Agencies will share information at the Chicago, IL, public meetings about the shared list of metrics that was developed by the three Federal Agencies to support the work of the White House Food Safety Working Group. The Agencies will present an example of how these metrics might be applied. The example will focus on applying these metrics to progress on Salmonella Enteritidis as FDA implements the egg rule, FSIS implements broiler chicken controls, and CDC collects and analyzes human disease data.

The Agencies will finalize an agenda on or before the public meeting date and post it on the FSIS Web page at: http://www.fsis.usda.gov/Regulations/2010_Notices_Index/index.asp.

II. Transcripts

When it becomes available, the official transcript of the public meeting will be kept in the FSIS Docket Room at the above address and will also be posted on the Agency Web site, http://www.fsis.usda.gov/Regulations/2010_Notices_Index/index.asp.

All interested parties are welcome to attend the public meetings.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that minorities, women, and persons with disabilities are aware of this notice, FSIS will announce it online through the FSIS Webpage located at http://www.fsis.usda.gov/regulations/2010_Notices_Index/.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Webpage. Through Listserv and the webpage, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on: June 24, 2010.
Alfred V. Almanza,
Administrator.

[FR Doc. 2010-15813 Filed 6-29-10; 8:45 am]

BILLING CODE 3410-DM-P